ENVIRONMENTAL PROTECTION AGENCY

[FRL-9112-5]

Notice of a Regional Project Waiver of Section 1605 (Buy American) of the American Recovery and Reinvestment Act of 2009 (ARRA) to the City of Gloucester, MA

AGENCY: Environmental Protection Agency (EPA).

ACTION: Notice.

SUMMARY: The EPA is hereby granting a waiver of the Buy American requirements of ARRA Section 1605 under the authority of Section 1605(b)(2) [manufactured goods are not produced in the United States in sufficient and reasonably available quantities and of a satisfactory quality] to the City of Gloucester, Massachusetts (“City”) for the purchase of foreign manufactured rotary sludge dewatering presses. This is a project specific waiver and only applies to the use of the specified product for the ARRA project being proposed. Any other ARRA recipient that wishes to use the same product must apply for a separate waiver based on project specific circumstances. The City's proposed wastewater treatment facility improvements will include replacement of the existing belt filter press for sludge generated at the plant. Based upon information submitted by the City and its consultants, it was determined that two 6-channel rotary press sludge dewatering units, manufactured by Fournier Industries of Quebec, Canada, will meet the City's design and performance specifications. The Regional Administrator is making this determination based on the review and recommendations of the Municipal Assistance Unit. The City, through its consulting engineers, has provided sufficient documentation to support their request. The Assistant Administrator of the Office of Administration and Resources Management has concurred on this decision to make an exception to Section 1605 of ARRA. This action permits the purchase of two, six channel rotary press sludge dewatering units, manufactured by Fournier Industries, by the City, as specified in its September 28, 2009 request, as part of the improvements to the wastewater treatment facility.

DATES: Effective Date: January 29, 2010.

FOR FURTHER INFORMATION CONTACT: Mark Spinale, Environmental Engineer, (617) 918-1547, or Katie Connors, Environmental Engineer, (617) 918-1658, Municipal Assistance Unit (CMU), Office of Ecosystem Protection (OEP), U.S. EPA, One Congress Street, CMU, Boston, MA 02114.

SUPPLEMENTARY INFORMATION: In accordance with ARRA Sections 1605(c) and 1605(b)(2), the EPA hereby provides notice that it is granting a project waiver of the requirements of Sections 1605(a) of Public Law 111-5, Buy American requirements, to the City of Gloucester, (“City”), Massachusetts for the purchase of two, six channel rotary press sludge dewatering units, manufactured by Fournier Industries of Quebec, Canada. It has been determined that these rotary presses meet the City's technical specifications for design and performance of a sludge dewatering unit as part of its wastewater treatment plant improvement project. Based on the information provided by the applicant, there are no domestically manufactured rotary sludge presses that at this time meet the specific design criteria established for this unit in the City's project.

Section 1605 of the ARRA requires that none of the appropriated funds may be used for the construction, alteration, maintenance, or repair of a public building or public work unless all of the iron, steel, and manufactured goods used in the project is produced in the United States, or unless a waiver is provided to the recipient by the head of the appropriate agency, here the EPA. A waiver may be provided if EPA determines that (1) Applying these requirements would be inconsistent with public the interest; (2) iron, steel, and the relevant manufactured goods are not produced in the United States in sufficient and reasonably available quantities and of a satisfactory quality; or (3) inclusion of iron, steel, and the relevant manufactured goods produced in the United States will increase the cost of the overall project by more than 25 percent.

The wastewater treatment facility for the City is a primary treatment plant designed to handle an annual average flow of 7.24 million gallons per day. The plant began operations in 1984, and in the early 1990's the facility was modified to provide an ocean outfall extension as well as odor control and disinfection improvements. Plant improvements again occurred in the mid-2000's with the replacement of various pumps and sludge removal mechanisms. However, no other significant expansions or upgrades have occurred during the 25 years of operations.

Most of the equipment at the treatment facility is original equipment that has largely reached or exceeded its expected service life. The City is now replacing major components of the facility through a phased program of equipment replacement and facility refurbishment. Included in the first phase of the facility-wide improvements is the installation of a new rotary sludge dewatering unit to replace the existing belt filter press. The City is requesting a waiver from the Buy American Provisions for the purchase of two foreign made rotary press sludge dewatering units manufactured by Fournier Industries (Quebec, Canada).

The key selection criteria established by the City and its consulting engineers for the sludge dewatering equipment include:

• Maintain or improve the dewatered dry solids concentration of 24% or greater.

• Minimize service water consumption during operation.

• Minimize long term operations and maintenance costs.

• Reduce odors and improve working conditions for operators by minimizing exposure to odorous and hazardous gases released from the sludge as well as exposure to bio-aerosols and pathogens. To achieve this goal, enclosed dewatering equipment is required.

• Allow for automatic adjustment for variation in feed solids concentrations and sludge mix ratios to provide consistent and optimum cake solids.

• Allow for unattended, automatic operation.

• Allow for backup capacity during periods of equipment failure and routine maintenance.

As part of the review of potentially viable sludge dewatering units, four technologies were evaluated by the City and their consultants: (1) Belt filter press, (2) centrifuge system; (3) screw press and (4) rotary press. Of the four technologies, it was determined that the rotary sludge press is the preferred technology because it ranked the highest in terms of meeting the key criteria highlighted above. In particular, the rotary presses manufactured by Fournier Industries were identified as a technically and economically feasible unit meeting all of the selection criteria established as part of the design requirements. The Fournier Rotary Presses are the preferred technology for installation at the City's wastewater treatment plant because of the following advantages:

• High cake solids concentration.

• Low odor emissions due to the enclosed design.

• Provides for continuous operation and has the flexibility to increase capacity based on influent flow.

• Low maintenance due to the slow rotational speed, requiring minimal operator attention.

• Low energy requirements resulting in low operation and maintenance costs.

• Each channel is an independent self-contained modular unit which can be interchanged with other same model rotary presses.

• Low noise and vibration output due to low operations speeds.

• Compact size resulting in smaller building and room footprint requirements.

• Filtration elements within each channel are of a non-clogging design which does not require washwater during operation.

The project specifications stipulate that the rotary press equipment be capable of meeting the following design and performance criteria:

• Type of Unit: six channel rotary press

• Blended Sludge Fraction (% Solids):

60-90% Primary Sludge

5-10% Scum

5-30% Septage

• Sludge Feed Concentration (% Solids): 2-8%

• Dry Solids Feed Rate: 200-400 dry lbs/hr/channel

• Hydraulic Sludge Feed Rate: 35-160 gpm

• Dewatered Sludge Solids Concentration (% Solids):

test condition (I)—30% minimum

test condition (II)—25% minimum

The project specifications also expressly require that the manufacturer of the rotary press have a minimum of 10 years demonstrated experience in the design, application, fabrication and supply of rotary press equipment for wastewater treatment plants. The specifications go on to further require that demonstration of experience shall take the form of a list of not less than 10 operating sludge dewatering installations of similar service and size including process performance data.

Based on the review of available information, there is only one domestic manufacturer of similar rotary type presses for municipal sludge. However, this manufacturer only produces one and two channel rotary fan presses and currently cannot meet the design specifications calling for a six channel rotary press, or the experience requirements specified for this proposed project. The domestic manufacturer has only been manufacturing and installing its rotary fan press since 2004, which is less than the 10 year experience requirement specified for the project. For these reasons, the Fournier Industries Rotary Sludge Press is the only unit at the present time that is acceptable in terms of meeting the design and experience specifications of this project.

The April 28, 2009 EPA HQ Memorandum, “Implementation of Buy American provisions of Public Law 111-5, the `American Recovery and Reinvestment Act of 2009' ” (“Memorandum”), defines reasonably available quantity as “the quantity of iron, steel, or relevant manufactured good is available or will be available at the time needed and place needed, and in the proper form or specification as specified in the project plans and design.” The same Memorandum defines “satisfactory quality” as “the quality of steel, iron or manufactured good specified in the project plans and designs.”

The City has requested a waiver of the ARRA Buy American provisions on the basis of unavailability of a U.S. manufactured product that will meet the design and performance criteria specified for the sludge dewatering unit. The evaluation of all of the submitted documentation by EPA's technical review team supports the City's claim that at this time no domestic manufacturer can provide a suitable rotary sludge dewatering press which meets the specifications for this unit. Based on the information available, and to the best of our knowledge, there do not appear to be other rotary press sludge dewatering units manufactured in the United States that are available at this time to meet the City's design specifications and performance requirements for this unit.

Furthermore, the purpose of the ARRA is to stimulate economic recovery by funding current infrastructure construction, not to delay projects that are “shovel ready” by requiring SRF eligible recipients such as the City to revise their design standards and specifications. The imposition of ARRA Buy American requirements in this case would result in unreasonable delay for this project. To delay this construction would directly conflict with a fundamental economic purpose of ARRA, which is to create or retain jobs.

The Municipal Assistance Unit (CMU) has reviewed this waiver request and has determined that the supporting documentation provided by the City established both a proper basis to specify the particular good required and that this manufactured good was not available from a producer in the United States able to meet the design specifications for the proposed project. The information provided is sufficient to meet the following criteria listed under Section 1605(b) of the ARRA and in the April 28, 2009 Memorandum: Iron, steel, and the manufactured goods are not produced in the United States in sufficient and reasonably available quantities and of a satisfactory quality.

The March 31, 2009 Delegation of Authority Memorandum provided Regional Administrators with the authority to issue exceptions to Section 1605 of ARRA within the geographic boundaries of their respective regions and with respect to requests by individual grant recipients.

Having established both a proper basis to specify the particular good required for this project and that this manufactured good was not available from a producer in the United States, the City is hereby granted a waiver from the Buy American requirements of Section 1605(a) of Public Law 111-5. This waiver permits use of ARRA funds for the purchase of the two specified Fournier Industries 6-channel rotary press sludge dewatering units documented in City's waiver request submittal dated September 28, 2009 as part of its wastewater treatment plant improvements. This supplementary information constitutes the detailed written justification required by Section 1605(c) for waivers based on a finding under subsection (b).

Authority: Pub. L. 111-5, section 1605.

Dated: January 29, 2010.
Ira Leighton,
Acting Regional Administrator, EPA Region 1—New England.

[FR Doc. 2010-2817 Filed 2-8-10; 8:45 am]

BILLING CODE 6560-50-P